FEDERAL COMMUNICATIONS COMMISSION

Public Information Collections Approved by Office of Management and Budget

October 4, 2007.

The Federal Communications Commission (FCC) has received Office of Management and Budget (OMB) approval for the following public information collections pursuant to the Paperwork Reduction Act of 1995, Public Law 104-13. An agency may not conduct or sponsor and a person is not required to respond to a collection of information unless it displays a currently valid control number. For further information, contact Nicole Ongele, Federal Communications Commission, (202) 418-2991 or via the Internet at Nicole.Ongele@fcc.gov.

OMB Control No.: 3060-0999.

Expiration Date: 9/30/10.

Effective Date: 9/17/07.

Title: Exemption of Public Mobile Service Phones from the Hearing Aid Compatibility Act, 47 CFR Section 20.19.

Form No.: N/A.

Estimated Annual Burden: 925 responses; 6,050 total annual hours; 6-7 hours per response.

Needs and Uses: Commission rules require digital wireless phone manufacturers and service providers to make available a certain number of digital wireless phones that meet specific performance levels set forth in an established technical standard. The phones must be made available according to an implementation schedule specified in Commission rules. To monitor the progress of implementation, digital phone manufacturers and service providers must submit reports every six months during the first three years of implementation, and then annually thereafter through the fifth year of implementation.

Federal Communications Commission.
Marlene H. Dortch,
Secretary.

[FR Doc. E7-20178 Filed 10-11-07; 8:45 am]

BILLING CODE 6712-01-P